NUCLEAR REGULATORY COMMISSION

[Docket No. 50-266 and 50-301]

FPL Energy Point Beach LLC; Notice of Withdrawal of Application for Amendment to Renewed Facility Operating Licenses DPR-24 and DPR-27

The U.S. Nuclear Regulatory Commission (the Commission) has granted the request of FPL Energy Point Beach, LLC (the licensee) to withdraw its December 29, 2007, application for proposed amendment to Renewed /Facility Operating License Nos. DPR-24 and DPR-27 for Point Beach Nuclear Plant, Unit Nos. 1 and 2, located in Town of Two Creeks, Manitowoc County, Wisconsin.

The proposed amendment would have revised the Technical Specifications for the Point Beach Nuclear Plant (PBNP) Units 1 and 2 Technical Specifications (TS) requirement for the completion time (CT) of TS 3.7.5.C. This revision would allow two separate one-time extensions of the CT for TS 3.7.5.C from 7 days to 16 days.

The Commission had previously issued a Notice of Consideration of Issuance of Amendment published in the Federal Register on January 28, 2008 (73 FR 5220). However, by letter dated August 21, 2008, the licensee withdrew the proposed change.

For further details with respect to this action, see the application for amendment dated December 29, 2007, and the licensee's letter dated August 21, 2008, which withdrew the application for license amendment. Documents may be examined, and/or copied for a fee, at the NRC's Public Document Room (PDR), located at One White Flint North, Public File Area O1 F21, 11555 Rockville Pike (first floor), Rockville, Maryland. Publicly available records will be accessible electronically from the Agencywide Documents Access and Management System (ADAMS) Public Electronic Reading Room on the internet at the NRC Web site, http://www.nrc.gov/reading-rm.html. Persons who do not have access to ADAMS or who encounter problems in accessing the documents located in ADAMS should contact the NRC PDR Reference staff by telephone at 1-800-397-4209, or 301-415-4737 or by e-mail to pdr.resource@nrc.gov.

Dated at Rockville, Maryland, this 19th day of September 2008.
For the Nuclear Regulatory Commission.
Jack Cushing,
Senior Project Manager, Plant Licensing Branch III-1, Division of Operating Reactor Licensing, Office of Nuclear Reactor Regulation.

[FR Doc. E8-24012 Filed 10-8-08; 8:45 am]

BILLING CODE 7590-01-P